DEPARTMENT OF AGRICULTURE

Food and Nutrition Service

Agency Information Collection Activities: Proposed Collections; Comment Request—A Case Study: Modernization of the Food Stamp Program in Florida

AGENCY: Food and Nutrition Service, USDA.

ACTION: Notice.

SUMMARY: In accordance with the Paperwork Reduction Act of 1995, this notice invites the general public and other public agencies to comment on proposed information collections.

This notice announces the Food and Nutrition Service's (FNS) intent to request approval from the Office of Management and Budget (OMB) for new information collection in the state of Florida. The Food and Nutrition Service (FNS) plans to systematically examine Florida's modernization model in order to understand better the relationship between Food Stamp Program structure, operations, costs, and performance. This review will consist of both a quantitative study using extant data and a qualitative study relying on the responses of state and local food stamp staff, community partners, food stamp applicants and participants and eligible non-participants. Project results will inform FNS policy discussion, provide technical information to States, and offer Florida's Department of Children and Family Services a tool for responding efficiently to the variety of stakeholder queries received.

DATES: Written comments must be received on or before March 7, 2006.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Erika Jones, Project Officer, Food and Nutrition Service, U.S. Department of Agriculture, 3101 Park Center Drive, Alexandria, VA 22302. Comments may also be submitted via fax to the attention of Erika Jones at 703-305-2576 or via e-mail to erika.jones@fns.usda.gov.

All written comments will be open for public inspection at the office of the Food and Nutrition Service, through prior arrangement with the project officer, during regular business hours (8:30 a.m. to 5 p.m., Monday through Friday) at 3101 Park Center Drive, Alexandria, Virginia 22302, Room 1014.

All responses to this notice will be summarized and included in the request for OMB approval. All comments will be a matter of public record.

FOR FURTHER INFORMATION CONTACT: Requests for additional information or copies of this information collection should be directed to Erika Jones on 703-305-2124.

SUPPLEMENTARY INFORMATION:

Title: A Case Study: Modernization of the Food Stamp Program in Florida.

OMB Number: Not Yet Assigned.

Form Number: N/A.

Expiration Date: To be determined.

Type of Request: New collection of information.

Abstract: The Florida Department of Family and Children's Services (DCFS) is implementing organizational changes, simplifying policies, streamlining procedures and introducing a variety of technology improvements to improve access and customer service while improving administrative efficiency. DCFS is in the process of modernizing its program districts which are at different stages of implementation. Key features of the State's organizational changes include toll-free phone access to regional call centers, an interactive voice response system, an Internet-based application, document scanning, and automated support for some verification procedures. DCFS also is developing partnerships with community-based service providers to engage them in client application support and other customer assistance activities.

In an effort to understand outcomes associated with program modernization, The Food and Nutrition Service (FNS) plans to systematically examine Florida's modernization model in order to understand better the relationship between Food Stamp Program structure, operations, costs and performance. Project results will inform FNS policy discussions, provide technical and procedurally relevant information to States, and offer Florida DCFS a tool for assessing potential model enhancements and responding efficiently to the variety of stakeholder queries received.

Specifically, the project will be guided by following objectives: (1) Developing a description of changes to food stamp policies and procedures that have been made in support of Automated Community Connection to Economic Self-Sufficiency Florida (ACCESS Florida), (2) Identifying how technology is used to support the range of food stamp eligibility determination and case management functions; (3) Describing the roles and experiences of State food stamp staff, vendors, and community partners working at different levels; (4) Understanding the experiences and satisfaction of food stamp participants, applicants and eligible non-participants; and (5) Describing Food Stamp Program performance overtime.

A descriptive case study, incorporating both qualitative and quantitative data, will be implemented to address these objectives. The study will rely on extant data to describe FSP performance before and after the State's modernization initiative with respect to participation rates, payment accuracy, administrative costs and other outcomes. Data will also be obtained through interviews with local, regional and state-level staff as well as community partners; and include discussion groups with food stamp participants and eligible non-participants.

While state-level performance data will be collected, along with interviews of state program staff, there will be a special focus on 6 of the 13 program districts providing food stamp services. Districts will be chosen to reflect diversity of modernization implementation across Florida. In each of these districts, a combination of in-person and telephone interviews will be conducted with FSP staff and community partners. In each region, the study will also conduct focus groups with participants, applicants, and eligible non-participants.

Interview and focus group questions will be kept as simple and respondent-friendly as possible. Responses to all questions will be voluntary. The contractor will take the following steps to treat the data provided in a confidential manner: (1) No data will be released in a form that identifies individual respondents by name and (2) information collected through interviews will be combined across other respondents in the same category and reported only in aggregate form. Respondents will be notified of these confidentiality measures during data collection.

Respondents: Staff associated with ACCESS Florida at the state and regional level, including regional call centers; staff from local food stamp service and case maintenance centers, state, regional and local staff from community partners assisting with the modernization efforts; and food stamp participants, applicants, and eligible non-participants.

Estimated Number of Respondents: The study will collect data from a total of 118 respondents. This number represents the sum of 23 State, districts and phone center staff (composed of 7 phone interviews and 16 in-person interviews); 33 local FSP staff (including 17 phone interviews and 16 in-person interviews); 26 staff members from community partners involved in modernization (12 phone interviews and 14 in-person interviews); 24 FSP participants and applicants and 12 eligible non-participants.

Number of Responses per Respondent: 1.

Estimated Time per Response: All burden estimates include respondents' time to prepare for and complete interviews or focus groups. In-person interviews: 1.5 hours each; Phone interviews: 1.5 hours each; and Focus groups: 1.5 hours per participant.

Estimated Total Annual Burden on Respondents: Total of 177 hours, including: State, regional and phone center staff, 34.5 hours; local ACCESS Florida staff, 49.5 hours; community partners, 39 hours; FSP applicants participants and eligible non-participants, 54 hours.

Dated: December 30, 2005.
Steven N. Christensen,
Acting Administrator, Food and Nutrition Service.

[FR Doc. E6-33 Filed 1-5-06; 8:45 am]

BILLING CODE 3410-30-P